DEPARTMENT OF DEFENSE

Department of the Army

Federal Property Suitable for Exchange

AGENCY: Department of the Army, Department of Defense (DOD).

ACTION: Notice.

SUMMARY: This notice identifies real property under the administrative jurisdiction of the United States Army which has been determined to be not required for DOD. The Army intends to exchange the real property to carry out a land acquisition under an agreement entered into under 10 U.S.C. 2684a to limit encroachments and other constraints on military training, testing, and operations at Fort Campbell, KY.

FOR FURTHER INFORMATION CONTACT: Mr. Craig Bradley III, Office of the Staff Judge Advocate, Bldg 125, Forest Road, Fort Campbell, KY 42262, Telephone: 270-798-0729.

SUPPLEMENTARY INFORMATION: In accordance with 10 U.S.C. § 2869(d)(1), the Army is publishing this Notice to identify Federal real property that the Army has reviewed for suitability to dispose of in exchange for real property or interests therein which are beneficial to the Army to limit encroachments and other constraints on military training, testing, and operations at Fort Campbell, KY. The property was screened within the DOD and no DOD agencies have expressed an interest in the property.

The Army real property consists of the following:

Approximately 55.6 acres at Fort Campbell, Kentucky.

Comments: The property consists of eight non-contiguous parcels created by the realignment of State Highway 79. These parcels are situated on the opposite side of the State Highway 79 from Fort Campbell and total approximately 55.6 acres.

The Army will exchange the above real property for:

Property of equal value subject to an agreement entered into under 10 U.S.C. § 2684a with an eligible entity in support of the Army Compatible Use Buffer (ACUB) program at Fort Campbell, which addresses the use or development of real property in the vicinity of, or ecologically related to, Fort Campbell.

Comments: Fort Campbell is located on the Kentucky-Tennessee border, approximately 50 miles north-east of Nashville, TN. Fort Campbell's mission is to support training, mobilization, deployment and redeployment of mission-ready forces. While Fort Campbell primarily supports the 101st Airborne Division and other assigned active component combat units, over 50,000 military personnel train at Fort Campbell annually. To maintain the required level of mission readiness, they require the ability to conduct realistic ground training and aviation operations on and around the installation—particularly at night.

The ACUB program at Fort Campbell seeks to establish protective buffers around the installation training area perimeter, preventing incompatible land uses from occurring within designated high noise zones and aircraft over-flight areas. Approved in 2006, the Fort Campbell ACUB goal is to protect almost 80,000 acres over a 10-year period.

The proposed exchange of these 55.6 acres will directly support Fort Campbell's goal of protecting these 80,000 acres. In doing so, the Army will ensure its ability to train and maintain combat readiness into the future.

Craig E. College,
Deputy Assistant Chief of Staff for Installation Management.

[FR Doc. E8-22757 Filed 9-26-08; 8:45 am]

BILLING CODE 3710-08-P